DEPARTMENT OF AGRICULTURE

Agricultural Marketing Service

[Doc. No. AMS-LP-24-0012]

Greenhouse Gas Technical Assistance Provider and Third-Party Verifier Program Advisory Council: Notice of Intent To Establish Charter and Solicitation for Nominations

AGENCY: Agricultural Marketing Service, USDA.

ACTION: Notice of intent to establish charter and call for nominations.

SUMMARY: This notice announces the U.S. Department of Agriculture (USDA) Secretary's intent to establish the Greenhouse Gas Technical Assistance Provider and Third-Party Verifier Program Advisory Council (Council) under the Growing Climate Solutions Act and in accordance with the Federal Advisory Committee Act (FACA), solicits nominations for membership on the Council, and solicits nominations for a pool of candidates to fill future unexpected vacancies in any of the position categories should that occur.

DATES: The Agricultural Marketing Service (AMS) invites interested persons to submit comments on this notice. Comments will be accepted until 11:59 p.m. ET on October 15, 2024, via https://www.regulations.gov: Document # AMS-LP-24-0012. Nomination packages including a cover letter to the Secretary, the nominee's typed resume or curriculum vitae, and a completed USDA Advisory Committee Membership Background Information Form AD-755 must be postmarked on or before October 15, 2024.

ADDRESSES: Nomination packages can be submitted electronically by email to Sasha.Strohm@usda.gov, or mailed to: Sasha Strohm, U.S. Department of Agriculture, 1400 Independence Avenue SW, Stop 0249, Washington, DC 20250, Attn: GCSA Advisory Council. Electronic submittals are preferred.

FOR FURTHER INFORMATION CONTACT: Sasha Strohm by telephone at 202-720-5705 or email at Sasha.Strohm@usda.gov.

SUPPLEMENTARY INFORMATION:

I. Background and Authority

The Growing Climate Solutions Act (GCSA) directs the Secretary of USDA to establish a non-discretionary advisory committee to be known as the “Greenhouse Gas Technical Assistance Provider and Third-Party Verifier Program Advisory Council” (Council). The GCSA was signed into law as part of the Consolidated Appropriations Act of 2023 (Pub. L. 117-328) and is codified in relevant part at 7 U.S.C. 6712. The GCSA specifies that the Council shall be subject to the Federal Advisory Committee Act (5 U.S.C. 10, 1001-1014), except that section 14(a)(2) of that Act (5 U.S.C. 1013(a)(2)), concerning the automatic termination of advisory committees, shall not apply. The purpose of the Council is to support the newly established Greenhouse Gas Technical Assistance Provider and Third-Party Verifier Program (Program) in facilitating the participation in voluntary environmental credit markets of farmers, ranchers, and private forest landowners, including beginning, socially disadvantaged, limited resource, and veteran farmers.

Key activities of the Council include periodically reviewing and recommending any appropriate changes to the protocols recognized by the Program for generating environmental credits; the required qualifications for entities that provide technical assistance to farmers, ranchers, and landowners; and the activities available to farmers, ranchers, and landowners under the Program to prevent, reduce, or mitigate greenhouse gas emissions.

The Council responsibilities include advising the Secretary regarding: (1) current methods used in voluntary environmental credit markets to quantify and verify the prevention, reduction, or mitigation of greenhouse gas emissions; and (2) ways to reduce the barriers to entry and transaction costs associated with such markets. Finally, the Council will submit an initial assessment to Congress about the Program, and it will consult with the Secretary regarding subsequent periodic assessments. For more information about the Council's duties and functions, interested persons are encouraged to review the GCSA, as set forth in 7 U.S.C. 6712, particularly subsections (f) and (g) of the law.

II. Structure

The Secretary will appoint the Council members. The GCSA requires that the Council be broadly representative of the agriculture and private forest sectors; include beginning, socially disadvantaged, limited resource, and veteran farmers, ranchers, and private forest landowners; and be composed of not less than 51 percent farmers, ranchers, or private forest landowners.

In accordance with the GCSA, members appointed shall include:

• Up to four representatives from USDA, Environmental Protection Agency, and National Institute of Standards and Technology, including:

○ Not more than two from USDA, as determined by the Secretary;

○ Not more than one from the Environmental Protection Agency, as determined by the Administrator; and

○ Not more than one from the National Institute of Standards and Technology.

The selection process for the Federal employee seats referenced above consists of the submission of a memorandum/letter from USDA to the Agency Head/Department Secretary requesting the agency/department identify a representative to serve on the Council by a certain date. The corresponding agency would respond with a letter of recommendation to USDA.

• Not fewer than twelve representatives of the agriculture industry (of which not fewer than six must be active farmers and ranchers).

• Not fewer than four representatives of private forest landowners or the forestry and forest products industry.

• Up to four representatives of the relevant scientific research community, including:

○ Not fewer than two representatives from land-grant colleges and universities (as defined in section 1404 of the National Agricultural Research, Extension, and Teaching Policy Act of 1977 (7 U.S.C. 3103)

Of which one shall be a representative of a college or university eligible to receive funds under the Act of August 30, 1890 (commonly known as the “Second Morrill Act”) (26 Stat. 417, chapter 841; 7 U.S.C. 321 et seq.), including Tuskegee University.

• Up to two experts or professionals, serving as Special Government Employees (SGE), familiar with voluntary environmental credit markets and the verification requirements in those markets.

• Up to three public representatives (i.e., members of nongovernmental or civil society organizations with relevant expertise):

○ Of which not fewer than one shall represent the interests of socially disadvantaged groups.

• Up to three representatives from private sector businesses or organizations that participate in voluntary environmental credit markets.

The Council will be balanced in its membership in terms of the points of view represented and the functions to be performed. Fresh points of view are encouraged through staggered membership terms and limiting the number of years a member may serve on the Council. In accordance with the GCSA, a member term shall be 2 years, except that of the members first appointed:

• not fewer than 8 members shall serve for a term of 1 year;

• not fewer than 12 members shall serve for a term of 2 years; and

• not fewer than 12 members shall serve for a term of 3 years.

After a member's initial term on the Council, the member may serve not more than 4 additional 2-year terms.

The Council shall meet not less frequently than annually. During the 90-day period beginning on the date on which the members are appointed, the Council shall hold an initial meeting. All meetings are open to the public in accordance with the FACA and its implementing regulations and guidelines. Pursuant to the GCSA, the Agriculture Secretary shall designate a member of the Council to serve as the Chair.

A permanent Federal employee is to be appointed in accordance with agency procedures and will serve as the Designated Federal Official (DFO). The DFO will approve the Council's and subcommittees' meetings, prepare and approve all meeting agendas, attend all council and subcommittee meetings, adjourn any meeting when the DFO determines adjournment to be in the public interest, and chair meetings when directed to do so by the official to whom the Council reports.

The Agricultural Marketing Service (AMS) has the authority to create subcommittees. Subcommittees must report back to the parent Council and must not provide advice or work products directly to the agency.

III. Compensation

In accordance with the GCSA, members of the Council shall serve without compensation. However, members may be reimbursed for travel expenses, including per diem instead of subsistence, while engaged in the performance of duties away from their homes or regular places of business. All travel for Council business must be approved in advance by the DFO.

IV. Nominations

AMS will consider nominations of all qualified individuals to ensure the Council includes the areas of subject matter expertise noted above (see “Structure”). Individuals may nominate themselves or other individuals, and professional associations and organizations may nominate one or more qualified persons for membership on the Council. Nominations must state that the nominee is willing to serve as a member of the Council.

A nomination package should include the following information for each nominee:

(1) A completed USDA Advisory Committee Membership Background Information Form AD-755, (https://www.usda.gov/sites/default/files/documents/ad-755.pdf).

(2) A curriculum vitae and/or resume, and

(3) A biographical sketch of the nominee (cover letter) explaining which group the nominee would represent (see “Structure”), how they are qualified to represent that group, and why they want to serve on the Council.

The following is optional:

• A letter of nomination stating the nominee's name, affiliation, and contact information, the basis for the nomination (i.e., what specific attributes recommend him/her for service in this capacity), and the nominee's field(s) of expertise.

Equal opportunity practices in accordance with USDA's policies will be followed in all member appointments to the Council. To ensure that the recommendations of the Council consider the needs of the diverse groups served by USDA, membership shall include, to the extent practicable, individuals with demonstrated ability to represent the many communities, identities, races, ethnicities, backgrounds, abilities, cultures, and beliefs of the American people, including underserved communities.

USDA prohibits discrimination in all of its programs and activities on the basis of race, color, national origin, religion, sex, gender identity (including gender expression), sexual orientation, disability, age, marital status, family/parental status, political beliefs, income derived from a public assistance program, or reprisal or retaliation for prior civil rights activity in any program or activity conducted or funded by USDA (not all bases apply to all programs).

The Charter and additional information on the Council will be available on the website at: https://www.ams.usda.gov/services/GCSA or may be requested by contacting the person listed in the FOR FURTHER INFORMATION CONTACT section of this notice.

Dated: August 7, 2024.
Cikena Reid,
USDA Committee Management Officer.

[FR Doc. 2024-17938 Filed 8-12-24; 8:45 am]

BILLING CODE 3410-02-P